DEPARTMENT OF AGRICULTURE

Submission for OMB Review; Comment Request

November 15, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: National School Lunch Program Direct Certification Improvement Study.

OMB Control Number: 0584-0529.

Summary of Collection: Direct certification enables children in households that receive Supplemental Nutrition Assistance Program (SNAP) or other public assistance program benefits to be certified to receive free school meals without application. The Child Nutrition and Special Supplemental Nutrition Program for Women, Infant, and Children (WIC) Reauthorization Act of 2004 (Pub. L. 108-265) required States and local education agencies to use direct certification. The Food and Nutrition Service (FNS) issued a new guideline, effective for school year 2009-2010, that direct certification must apply to all students in the household, to the extent possible, if any household member receives SNAP, Food Distribution Program on Indian Reservation, or Temporary Assistance for Needy Families benefits.

Need and Use of the Information: In order for FNS to meet the study objectives, the project will include three data collection efforts: (1) A Web-based national survey of States and local nutrition program administration; (2) in-person interviews conducted with State and district-level staff responsible for direct certification in seven case study States; and (3) an exploration of unmatched SNAP participant records and National School Lunch Program application in case study States. If the data are not collected, FNS will not have the information it needs to address the study objectives.

Description of Respondents: State, Local, or Tribal Government.

Number of Respondents: 6,513.

Frequency of Responses: Reporting: Other (one-time).

Total Burden Hours: 3,728.

Ruth Brown,
Departmental Information Collection Clearance Officer.

[FR Doc. 2011-29952 Filed 11-18-11; 8:45 am]

BILLING CODE 3410-30-P